DEPARTMENT OF THE INTERIOR

Fish and Wildlife Service

[FWS-R7-MM-2017-N010; FF07CAMM00.FX.ES111607MRG00]

Proposed Information Collection; Marine Mammal Marking, Tagging, and Reporting Certificates, and Registration of Certain Dead Marine Mammal Hard Parts

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on June 30, 2017. We may not conduct or sponsor and a person is not required to respond to a collection of information unless it displays a currently valid OMB control number.

DATES: To ensure that we are able to consider your comments on this IC, we must receive them by April 25, 2017.

ADDRESSES: Send your comments on the IC to the Service Information Collection Clearance Officer, U.S. Fish and Wildlife Service, MS: BPHC, 5275 Leesburg Pike, Falls Church, VA 22041-3803 (mail); or madonna_baucum@fws.gov (email). Please include “1018-0066” in the subject line of your comments.

FOR FURTHER INFORMATION CONTACT: To request additional information about this IC, contact Madonna Baucum at madonna_baucum@fws.gov (email) or (703) 358-2503 (telephone).

SUPPLEMENTARY INFORMATION:

I. Abstract

Under section 101(b) of the Marine Mammal Protection Act of 1972 (MMPA), as amended (16 U.S.C. 1361-1407), Alaska Natives residing in Alaska and dwelling on the coast of the North Pacific or Arctic Oceans may harvest polar bears, northern sea otters, and Pacific walruses for subsistence or handicraft purposes. Section 109(i) of the MMPA authorizes the Secretary of the Interior to prescribe marking, tagging, and reporting regulations applicable to the Alaska Native subsistence and handicraft take.

On behalf of the Secretary, we implemented regulations at 50 CFR 18.23(f) for Alaska Natives harvesting polar bears, northern sea otters, and Pacific walruses. These regulations enable us to gather data on the Alaska Native subsistence and handicraft harvest and on the biology of polar bears, northern sea otters, and Pacific walruses in Alaska to determine what effect such take may be having on these populations. The regulations also provide us with a means of monitoring the disposition of the harvest to ensure that any commercial use of products created from these species meets the criteria set forth in section 101(b) of the MMPA. We use three forms to collect the information: FWS Form 3-2414 (Polar Bear Tagging Certificates), FWS Form 3-2415 (Walrus Tagging Certificates), and FWS Form 3-2416 (Sea Otter Tagging Certificates). The information we collect includes, but is not limited to:

• Date of kill.

• Sex of the animal.

• Kill location.

• Age of the animal (i.e., adult, subadult, cub, or pup).

• Form of transportation used to make the kill of polar bears.

• Amount of time (i.e., hours/days hunted) spent hunting polar bears.

• Type of take (live-killed or beach-found) for walrus.

• Number of otters present in and number of otters harvested from pod.

• Condition of the polar bear and whether or not bear cubs were present.

• Name of the hunter or possessor of the specified parts at the time of marking, tagging, and reporting.

We are proposing to use FWS Form 3-2406 (Registration of Certain Dead Marine Mammal Hard Parts) to record the collection of bones, teeth, or ivory of dead marine mammals by non-Native and Natives not eligible to harvest marine mammals under the MMPA. It is legal to collect such parts from a beach or from land within a quarter of a mile of the ocean (50 CFR 18.26). The information we collect will include, but is not limited to:

• Date and location found.

• Age, sex, and size of the animal.

• Tag numbers.

• Name, address, phone number, and birthdate of the collector.

II. Data

OMB Control Number: 1018-0066.

Title: Marine Mammal Marking, Tagging, and Reporting Certificates, and Registration of Certain Dead Marine Mammal Hard Parts, 50 CFR 18.23(f) and 50 CFR 18.26.

Service Form Number(s): 3-2406, 3-2414, 3-2415, and 3-2416.

Type of Request: Revision of a currently approved collection.

Description of Respondents: Individuals and households.

Respondent's Obligation: Required to obtain or retain a benefit.

Frequency of Collection: On occasion.

Activity | Number of respondents | Number of responses | Completion time per response (minutes) | Total annual burden hours
3-2414 (Polar Bear) | 25 | 60 | 15 | 15
3-2415 (Walrus) | 100 | 500 | 15 | 125
3-2416 (Sea Otter) | 75 | 1,280 | 15 | 320
3-2406 (Beach Found) | 300 | 300 | 15 | 75
Totals | 500 | 2,140 |  | 535

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: February 17, 2017.
Tina A. Campbell,
Chief, Division of Policy, Performance, and Management Programs, U.S. Fish and Wildlife Service.

[FR Doc. 2017-03583 Filed 2-23-17; 8:45 am]

BILLING CODE 4333-15-P